DEPARTMENT OF DEFENSE

Department of the Navy

Notice of Extension of Public Scoping Period and Intent To Prepare a Supplemental Environmental Impact Statement to the Final Environmental Impact Statement

AGENCY: Department of the Navy, DoD.

ACTION: Notice.

SUMMARY: Pursuant to section 102(2)(C) of the National Environmental Policy Act (NEPA) of 1969, as implemented by the Council on Environmental Quality Regulations (40 CFR parts 1500-1508), the Department of the Navy (DON) published a notice of intent to prepare a Supplemental EIS to the Final Environmental Impact Statement for “Developing Home Port Facilities for Three NIMITZ Class Aircraft Carriers in Support of the U.S. Pacific Fleet” dated July 1999 with its Record of Decision signed on 28 January 2000 and published in the Federal Register on 8 February 2000 (65 FR 6181) and announced public comment period in the Federal Register, 72 FR 59085 on October 18, 2007. This notice announces the extension of the public scoping period from November 19, 2007 to December 3, 2007.

DATES AND ADDRESSES: The agency must receive comments on or before December 3, 2007. Comments may be submitted by mail or electronically through the project Web site. Comments may be mailed to the following address: Naval Facilities Engineering Command Southwest, Attention: Ms. Ann Rosenberry (Code OPME.AR), 2730 McKean St., Building 291, San Diego, CA 92136. Comments may be submitted electronically at the project Web site at: http://www.nimitzcarriersseis.com.

FOR FURTHER INFORMATION CONTACT: Ms. Ann Rosenberry, Naval Facilities Engineering Command Southwest, 2730 McKean St., Building 291, San Diego, CA 92136; telephone: 619-556-7368, facsimile: 619-556-0195.

SUPPLEMENTARY INFORMATION: Due to the recent wildfires in the San Diego area, the Department of the Navy has decided to extend the public scoping period for this proposed action. Accordingly, the public scoping period is hereby extended for 15 days. To receive full consideration, comments must be received on or before December 3, 2007.

Dated: November 7, 2007.
T.M. Cruz,
Lieutenant, Judge Advocate General's Corps, U.S. Navy, Federal Register Liaison Officer.

[FR Doc. E7-22172 Filed 11-9-07; 8:45 am]

BILLING CODE 3810-FF-P